ENVIRONMENTAL PROTECTION AGENCY

40 CFR Part 82

Protection of Stratospheric Ozone

CFR Correction

In Title 40 of the Code of Federal Regulations, parts 81 to 85, revised as of July 1, 1999, in §82.3 the definition of “Unexpended Article 5 allowances” inadvertently removed, should be added after the term “Transhipment” as follows:

§82.3 Definitions.

* * * * *

Unexpended Article 5 allowances means Article 5 allowances that have not been used. At any time in any control period a person's unexpended Article 5 allowances are the total of the level of Article 5 allowances the person has authorization under this subpart to hold at that time for that control period, minus the level of controlled substances that the person has produced in that control period until that time.

* * * * *

[FR Doc. 00-55514 Filed 8-30-00; 8:45 am]

BILLING CODE 1505-01-D